FEDERAL RESERVE SYSTEM

Change in Bank Control Notices; Acquisition of Shares of Bank or Bank Holding Companies; Correction

This notice corrects a notice (FR Doc. 04-24999) published on pages 65195 and 65196 of the issue for Wednesday, November 10, 2004.

Under the Federal Reserve Bank of St. Louis heading, the entry for Charles Keith Akin, is revised to read as follows:

A. Federal Reserve Bank of St. Louis (Randall C. Sumner, Vice President) 411 Locust Street, St. Louis, Missouri 63166-2034:

1. Charles Keith Akin, Clinton, Kentucky; and the Akin Control Group, which consists of Charles Keith Akin; Anita Akin; Burkley Investments, Inc.; Parkway Manor - KY; and Parkway Manor - TN, all of Clinton, Kentucky; and Bruce Akin, Paducah, Kentucky; to acquire additional voting shares of Purchase Area Bancorp, Bardwell, Kentucky, and thereby indirectly acquire voting shares of Bardwell Deposit Bank, Bardwell, Kentucky.

Comments on this application must be received by November 24, 2004.

Board of Governors of the Federal Reserve System, November 10, 2004.
Robert deV. Frierson,
Deputy Secretary of the Board.

[FR Doc. 04-25455 Filed 11-16-04; 8:45 am]

BILLING CODE 6210-01-S